FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than October 15, 2004.

A. Federal Reserve Bank of St. Louis (Randall C. Sumner, Vice President) 411 Locust Street, St. Louis, Missouri 63166-2034:

1. The Peoples Holding Company, Tupelo, Mississippi; to merge with Heritage Financial Holding Corporation, Decatur, Alabama, and thereby indirectly acquire Heritage Bank, Decatur, Alabama.

B. Federal Reserve Bank of Kansas City (Donna J. Ward, Assistant Vice President) 925 Grand Avenue, Kansas City, Missouri 64198-0001:

1. Wilber Co., Wilber, Nebraska; to acquire 100 percent of the voting shares of Hickman Corporation, Hickman, Nebraska, and thereby indirectly acquire First State Bank, Lincoln, Nebraska, and to acquire 100 percent of the voting shares of Yutan Bancorp., Inc., Yutan, Nebraska, and thereby indirectly acquire Bank of Yutan, Yutan, Nebraska. In addition, Wilber Co., Wilber, Nebraska, has applied to engage in insurance agency activities in a town of less than 5,000 in population through the acquisition of Yutan Insurance Agency, Yutan, Nebraska, pursuant to section 225.28(b)(11)(iii)(A) of Regulation Y.

2. SSB Management LLC, Wilber, Nebraska; to acquire additional shares, for a total of 45.2 percent of the voting shares, of Wilber Co., Wilber, Nebraska, and thereby indirectly acquire Hickman Corporation, Hickman, Nebraska, and thereby indirectly acquire First State Bank, Lincoln, Nebraska; Yutan Bancorp., Inc., Yutan, Nebraska, and thereby indirectly acquire Bank of Yutan, Yutan, Nebraska. SSB Management LLC, also has applied to acquire Yutan Insurance Agency, Inc., Yutan, Nebraska, and thereby to indirectly engage in insurance activities in a town of less than 5,000 in population, pursuant to section 225.28(b)(iii)(A) of Regulation Y.

3. First National Johnson Bancshares, Inc. Johnson, Nebraska; to acquire additional voting shares, for a total of 12.9 percent of the voting shares of Wilber Co., Wilber, Nebraska, and thereby acquire shares of Hickman Corporation, Hickman, Nebraska, and First State Bank, Lincoln, Nebraska; Yutan Bancorp., Inc., Yutan, Nebraska, and thereby indirectly acquire Bank of Yutan, Yutan, Nebraska. First National Johnson Bancshares, Inc., also has applied to indirectly engage in insurance activities through the acquisition of Yutan Insurance Agency, Inc., Yutan, Nebraska, by Wilber Co., and thereby engage in insurance activities in a town of less than 5,000 in population, pursuant to section 225.28(b)(11)(iii)(A) of Regulation Y.

Board of Governors of the Federal Reserve System, September 16, 2004.
Robert deV. Frierson,
Deputy Secretary of the Board.

[FR Doc. 04-21295 Filed 9-21-04; 8:45 am]

BILLING CODE 6210-01-S